DEPARTMENT OF EDUCATION

National Institute on Disability and Rehabilitation Research

AGENCY: Department of Education.

ACTION: Notice of Final Funding Priorities for Fiscal Years 2000-2001 for Research and Training Centers.

SUMMARY: The Assistant Secretary for the Office of Special Education and Rehabilitative Services announces final funding priorities for three Rehabilitation Research and Training Centers (RRTCs) under the National Institute on Disability and Rehabilitation Research (NIDRR) for fiscal years 2000-2001. The Assistant Secretary takes this action to focus research attention on areas of national need. These priorities are intended to improve rehabilitation services and outcomes for individuals with disabilities.

EFFECTIVE DATE: These priorities take effect on June 19, 2000.

FOR FURTHER INFORMATION CONTACT: Donna Nangle. Telephone: (202) 205-5880. Individuals who use a telecommunications device for the deaf (TDD) may call the TDD number at (202) 205-9136. Internet: Donna_Nangle@ed.gov

Individuals with disabilities may obtain this document in an alternate format (e.g., Braille, large print, audiotape, or computer diskette) on request to the contact person listed in the preceding paragraph.

SUPPLEMENTARY INFORMATION: This notice contains final priorities for one RRTC related to Rehabilitation for Persons with Long-Term Mental Illness and two RRTCs related to Independent Living. The final priorities refer to NIDRR's Long Range Plan (the Plan). The Plan can be accessed on the World Wide Web at: http://www.ed.gov/legislation/FedRegister/other/1999-12/68576.html.

These final priorities support the National Education Goal that calls for every adult American to possess the skills necessary to compete in a global economy.

The authority for the Secretary to establish research priorities by reserving funds to support particular research activities is contained in sections 202(g) and 204 of the Rehabilitation Act of 1973, as amended (29 U.S.C. 762(g) and 764).

Note: This notice of final priorities does not solicit applications. A notice inviting applications is published in this issue of the Federal Register.

Analysis of Comments and Changes

On February 23, 2000 the Assistant Secretary published a notice of proposed priorities in the Federal Register (64 FR 9182). The Department of Education received 13 letters commenting on the notice of proposed priority by the deadline date. Technical and other minor changes—and suggested changes the Assistant Secretary is not legally authorized to make under statutory authority—are not addressed.

Rehabilitation Research and Training Centers

Rehabilitation of Persons with Long-term Mental Illness

Comment: Eleven commenters suggested that the RRTC should add a priority addressing the role of technology in self-determination.

Discussion: The RRTC is established for the purpose of conducting research that can facilitate improving services and supports for individuals with Long-Term Mental Illness (LTMI). NIDRR recognizes the need for better understanding of the role of technology in rehabilitation of individuals with disabilities, including applications of information technologies in the delivery of supports and services to individuals with LTMI.

Changes: The priority has been revised to require that applicants conduct research on technology in self-determination.

Comment: The request for application should specifically ask for research and development issues related to societal barriers that result from the problems related to the stigma and discrimination experienced by persons with mental illness.

Discussion: Applicants have the discretion to propose to address stigmas, discrimination, and barriers as they relate to self-determination. However, after consulting with officials at the National Institute on Mental Health (NIMH), NIDRR has determined that research on these topics duplicate NIMH research. NIDRR declines to add a requirement that applicants specifically address research and development issues related to societal barriers that result from the problems related to the stigma and discrimination experienced by persons with mental illness.

Change: None.

Comment: NIDRR is encouraged to examine opportunities to enhance self-determination efforts, particularly opportunities to expand consumer and family member initiated acts of self-determination in delivery of patient care and rehabilitative services and other self-determination efforts that are succeeding.

Discussion: The priority provides a discussion on the issue of enhancing opportunities to expand consumer and family member initiated acts of self-determination in delivery of patient care and rehabilitative services. The applicant has the discretion to pursue research related to all aspects of improving self-determination services and supports for individuals with LTMI in the proposal. The peer review process will evaluate the merits of the proposals.

Change: None.

Comment: NIDRR is encouraged to use resources to increase availability of evidence-based service delivery programs such as the Program of Assertive Community Treatment (PACT).

Discussion: The priority provides a discussion on the issue of community-based and evidence-based service delivery. Applicants could propose to address examples of evidence-based service delivery in fulfilling the requirements of the priority. However, NIDRR has no basis to determine that all applicants should be required to address this issue or to utilize a specific theory, model, or approach.

Change: None.

The Department of Education received two letters commenting upon the two proposed priorities on independent living.

Improved Management of CIL Programs and Services

Comment: One commenter suggested that NIDRR require the RRTC to address successful management practices applied by organizations in the for-profit sector that could be utilized by CILs.

Discussion: In the background statement, NIDRR notes that CILs operate in an environment of public and private and nonprofit and business entities. We agree that the for-profit sector may offer CILs models of successful management practices. In addressing the required research activities, applicants have the discretion to propose specific research approaches and theoretical perspectives. The peer review process will evaluate the merits of the proposals.

Changes: We have revised the fourth activity to reflect that business organizations are potential models of successful management for CILs.

Comment: One commenter recommended that the training to improve core competency skills be extended to all staff members, including those facing barriers related to cultural and linguistic diversity. The same commenter recommended that the statement regarding evaluation of strategies for improved recruitment and retention of staff be worded so that it includes all center staff, with an emphasis on people from diverse backgrounds.

Discussion: In the background statement, NIDRR notes that staffing problems in general are an issue for CILs that must be addressed. Similarly, NIDRR recognizes that improvement of core competencies is an issue for all CIL staff. The language of the proposed activities needs to be changed to fully address the concerns of NIDRR.

Changes: NIDRR has revised the activities to clarify that the training needs and the recruitment and retention of all staff, including those who are geographically dispersed or cultural and linguistic minorities, must be addressed.

Comment: One commenter recommended that the focus be broadened to include examination of CIL partnerships with public and private agencies that may have newly acquired authority and resources aimed at the mission of employment of people with disabilities.

Discussion: In the priority, NIDRR notes that CILs operate in an environment of public and private and nonprofit and business entities. NIDRR notes that the ability to form effective working relationships with a range of organizations is essential for successful CIL operation. As noted in the background statement, recent developments in employment services and entitlement benefits for individuals pose additional challenges. NIDRR prefers to allow the applicant to develop and propose plans that draw upon the range of actors that may facilitate employment. The peer review process will evaluate the merits of the proposals.

Changes: None.

Il and the New Paradigm of Disability

Comment: One commenter indicated that the priority was not clearly worded when presenting the activity that references “generic community services”.

Discussion: The background statement indicates that a challenge to facilitating independent living and community integration is the changing universe of disability. NIDRR encourages applicants to address a range of strategies that could facilitate advocacy and community services for persons with significant disabilities, including persons from a changing universe population. An applicant might propose to focus upon a range of appropriate populations with different degrees of need for services. The peer review process will evaluate the merits of the proposals.

Changes: None.

Comment: One commenter asked for clarification so that the priority explicitly includes “the policy environment as part of the social environment” cited in the opening paragraph.

Discussion: NIDRR has long supported policy research on disability and independent living. Inclusion of a policy focus is in line with positions established in the Plan.

Changes: The priority has been revised to explicitly include “the policy environment”.

Rehabilitation Research and Training Centers

The authority for the RRTC program is contained in section 204(b)(2) of the Rehabilitation Act of 1973, as amended (29 U.S.C. 764(b)(2)). Under this program the Secretary makes awards to public and private organizations, including institutions of higher education and Indian tribes or tribal organizations for coordinated research and training activities. These entities must be of sufficient size, scope, and quality to effectively carry out the activities of the Center in an efficient manner consistent with appropriate State and Federal laws. They must demonstrate the ability to carry out the training activities either directly or through another entity that can provide that training. The Assistant Secretary may make awards for up to 60 months through grants or cooperative agreements. The purpose of the awards is for planning and conducting research, training, demonstrations, and related activities leading to the development of methods, procedures, and devices that will benefit individuals with disabilities, especially those with the most severe disabilities.

Description of Rehabilitation Research and Training Centers

RRTCs are operated in collaboration with institutions of higher education or providers of rehabilitation services or other appropriate services. RRTCs serve as centers of national excellence and national or regional resources for providers and individuals with disabilities and the parents, family members, guardians, advocates or authorized representatives of the individuals.

RRTCs conduct coordinated, integrated, and advanced programs of research in rehabilitation targeted toward the production of new knowledge to improve rehabilitation methodology and service delivery systems, to alleviate or stabilize disabling conditions, and to promote maximum social and economic independence of individuals with disabilities.

RRTCs provide training, including graduate, pre-service, and in-service training, to assist individuals to more effectively provide rehabilitation services. They also provide training including graduate, pre-service, and in-service training, for rehabilitation research personnel and other rehabilitation personnel.

RRTCs serve as informational and technical assistance resources to providers, individuals with disabilities, and the parents, family members, guardians, advocates, or authorized representatives of these individuals through conferences, workshops, public education programs, in-service training programs and similar activities.

RRTCs disseminate materials in alternate formats to ensure that they are accessible to individuals with a range of disabling conditions.

NIDRR encourages all Centers to involve individuals with disabilities and individuals from minority backgrounds as recipients of research training, as well as clinical training.

The Department is particularly interested in ensuring that the expenditure of public funds is justified by the execution of intended activities and the advancement of knowledge and, thus, has built this accountability into the selection criteria. Not later than three years after the establishment of any RRTC, NIDRR will conduct one or more reviews of the activities and achievements of the Center. In accordance with the provisions of 34 CFR 75.253(a), continued funding depends at all times on satisfactory performance and accomplishment.

Priority 1: Long-Term Mental Illness

Background

The Surgeon General estimates that approximately 20 percent of the U.S. population experience a mental disorder in any given year, that 9 percent of the adult population have a diagnosable major mental illness, and that a subpopulation of 5.4 percent of the population is considered to have a significant mental illness (Kessler, R.C., McGonagle, K.A., Zhoa, S., Nelson, C.B., Hughes, M., Eshlemon, S., Wittchen, H.U., Kendler, K.S. (1994). Lifetime and 12-month prevalence of DSM-IIIR psychiatric disorders in the United States. Results from the National Comorbidity Survey. Archives of General Psychiatry, 51-8-19). The costs to society of mental illness are substantial. The indirect costs of mental illness in 1990, stemming from lost productivity at work, school, or home, were estimated at $78.6 billion (Rice and Miller, 1996). As the population grows, the needs of a growing number of individuals with a significant mental illness are not being met. Only one in four adults with a diagnosable mental disorder receives treatment and one third of children and adolescents needing mental health services are treated (Manderscheid and Henderson, 1998), this can be attributed to many factors. Inadequate community resources, including lack of access to new medications and psychosocial treatments, unemployment, and lack of options for long-term care complicate the lives of individuals with long-term mental illness. Many individuals also experience homelessness, family disruptions, chronic medical conditions, alcohol and substance abuse, incarceration, and social isolation, as well as the potential for periodic exacerbation.

Quality is an important factor in the delivery of effective mental health services. Defining quality services is not an easy task, nor is there ready consensus on all components of the concept. The Institute of Medicine states that quality of services is “the degree to which health services for individuals and populations increase the likelihood of desired health outcomes and are consistent with current professional knowledge” (Marder, 1999). However, measuring the quality of services provided to individuals with significant mental illness, as well as measuring outcomes, present numerous challenges because of the periodic and chronic nature of the illness, and the ongoing need for intensive therapeutic services and long-term support. Practitioners, policy makers, and consumers continue to ask questions about how to adequately meet the multifaceted needs of individuals with significant mental illness.

Generally, family members and consumers want community-based support services and treatment programs that are accessible and designed to meet long-term needs. The potential for individuals with serious mental illness to be maintained in the community rather than in institutions, work productively, live independently, and participate in rehabilitation planning is increased when a comprehensive support system is available in community settings. Research on consumer participation and community-based programs has provided evidence that there is a positive relationship between the level of consumer participation and therapeutic outcomes (Kent & Read, 1998).

Proponents of community-based service programs and support systems long have advocated that consumers be empowered to participate in the decisionmaking process. However, one reason individuals with disabilities have limited opportunities to participate in decisions about their services is related to the lack of consensus on a definition for self-determination. Self-determination is defined and implemented differently (Ward, 1999) depending on the program, philosophy, and purposes for implementing a self-determination model. However, there are some common concepts in the definitions for self-determination, in particular, consumer control, choice, self-direction, empowerment, leadership, and self-advocacy (Ward & Roger, 1999) as potential elements of self-direction. While most mental health professionals support the concept of self-determination, not all agree that individuals with psychiatric disabilities should have control over or participate in planning and decisionmaking activities (Kent & Read, 1998).

Individuals with psychiatric disabilities are not yet full participants in the disability self-determination movement. It is widely alleged that professionals in the psychiatric disabilities community continue to use medical compliance as a control mechanism and as a determining factor for awarding patients certain privileges. The right to choose among treatment options is often regarded as a privilege that is earned through medical compliance (Chamberlain & Powers, 1999).

Obstacles to the development and implementation of self-determination efforts include controversy over whether severe mental illness is a lifelong process or whether recovery is possible. Some discussions of this issue suggest that the need for extensive, lifelong support and the severity of the illness preclude using a self-determination approach. In addition, the impact of self-determination approaches on quality of services is unknown. Methodologies, indicators, and standards for measuring quality of care within self-determination models would facilitate understanding the impact of this approach on rehabilitation outcomes. In particular, research that addresses questions about the ability of individuals with serious mental illnesses to make decisions about treatment and medication management is lacking.

Traditionally, program planning and treatment decisions in the mental health field have been made by clinicians, and often involve maintaining patients on medication without consumer input or choice. Policies and service systems tend to be based on a paternalistic model that restricts consumer control and input. However, there is evidence that consumer and family involvement in decisionmaking and program planning have the potential to foster higher quality services and responsiveness from providers.

The quality of services can potentially be improved by using information technology to involve consumers and families in decisionmaking. Efforts to support individual choice can be enhanced by using emerging technologies to improve access to services, particularly for individuals in remote areas, reduce information dissemination barriers, improve employment training and job opportunities, and enhance training options for service providers. Although recent studies have discussed the digital divide for individuals with disabilities (New York Times, 2000; Disability Statistics Center, 2000) there is a paucity of research on the benefits of using technology to support self-determination. Research addressing consumer benefits and satisfaction with uses of technology for activities associated with improving their independence, barriers that prevent access and expanded use of technology, service provider knowledge and experience using technology to support self-determination, and the effectiveness of technology to improve or enhance self-determination is limited.

Similarly, the effectiveness service models incorporating self-determination and their relationship to rehabilitation outcomes have not been evaluated. In addition, there has not been adequate study of the impact of the various components of self-determination models on the rehabilitation process.

Better understanding of the implications of self-determination for rehabilitation outcomes potentially will answer questions related to competency, patient rights, recovery, outcomes, and policies. Research addressing these issues, describing standards for quality, and establishing outcome measures for consumer driven decisions is lacking in the research literature. Studies evaluating self-determination will potentially further the understanding of the rehabilitation process for individuals with significant mental illness, and identify strengths, weaknesses, and needed improvements in the existing models.

The Plan emphasizes the importance of independent living and community integration. Central to independent living is the recognition that each individual has a right to independence that comes from exercising maximal control over his or her life. These activities include making decisions involved in managing one's own life, sustaining the ability and opportunity to make choices in performing everyday activities, and minimizing physical and psychological dependence on others. Independent living is a concept that also emphasizes participation and equity in the right to share in the opportunities, risks, and rewards available to all citizens.

Priority: Improving Services and Supports for Individuals With Long-Term Mental Illness

The Assistant Secretary, in collaboration with the Substance Abuse and Mental Health Services Administration and the Center for Mental Health Services, will establish an RRTC for the purpose of improving services and supports for individuals with long-term mental illness. In carrying out these purposes, the Center must:

(1) Develop measures that can be applied to evaluate self-determination activities in terms of rehabilitation outcomes, quality of services, and availability of community resources;

(2) Identify and assess self-determination direction theories, models, and activities, as well as the barriers to participation in self-determination activities for individuals with disabilities;

(3) Develop and evaluate management tools to enable service providers to support self-determination;

(4) With significant and persistent mental illness and publish a comprehensive report in the fourth year of the grant; and

(5) Address in its research the specific needs of minority populations with LTMI.

Two Priorities on Independent Living

Background

The mission of NIDRR emphasizes developing knowledge that will “improve substantially the options for disabled individuals to perform regular activities in the community, and the capacity of society to provide full opportunities and appropriate supports for its disabled” as stated in the Plan. Much of NIDRR's work reflects the components of the Independent Living (IL) philosophy: consumer control, self-help, advocacy, peer relationships and peer role models, and equal access to society, programs, and activities. NIDRR has funded subject-specific RRTCs in IL since 1980 and supports other projects that incorporate principles of IL.

Most recently, NIDRR has funded one RRTC on Centers for Independent Living (CIL) management and services and a second on IL and disability policy. The last year of the five-year project period for the awards was 1999. In light of the research agenda established in the Plan, and input obtained from the Rehabilitation Services Administration (RSA) and other Federal agencies and constituents, in various meetings that addressed related themes, NIDRR has identified critical issues in independent living to be addressed at this time. There is a continuing need to fund two Centers that study independent living and community integration.

Independent living and achieving community integration to the maximum extent possible are issues at the crux of NIDRR's mission. NIDRR is committed to the creation of a theoretical framework with measurable outcomes that is based upon the experiences of individuals with disabilities. The new paradigm of disability embodied in the Plan requires analysis of the extent to which socioenvironmental factors help or hinder individuals with disabilities in attaining full participation in society. Questions as basic as defining independent living in the context of diverse socioeconomic factors must be addressed. Current challenges to independent living derive from the changing characteristics of both the IL service system and the disability population.

Substantial administrative, advocacy, strategic and service-delivery issues affect the daily activities of Centers for Independent Living (CILs). Critical issues include funding and resource management, quality staffing, and relationships with other agencies key to the success of CILs. The issue of financial management of CILs calls for a balanced approach to identify existing policies, regulations, models, and programs that serve to hinder or help in establishing sound fiscal operation. Financial management requires expertise in fiscal analysis, budgeting, understanding grant requirements and program rules, accounting, auditing, and fundraising.

CILs, which spend substantial amounts of money on personnel, are subject to staffing problems typical of human service organizations and small businesses, including recruitment problems, training and competency development, and retention problems. Staffing problems may impede the ability of CILs to deliver individualized information and support services. An essential step in strengthening continuity in services is to recruit, train, and retain first line managers.

CILs lack documentation of the competencies required for IL management. Awareness of competency needs is key to developing successful recruitment strategies and staff development programs. For example, innovative recruitment strategies are needed to attract youth with disabilities that are transitioning from school to independent living to obtain employment expeiences in CIL service programs. Creative efforts to attract young persons entering the job market as employees could assist the CILs in understanding the needs of youth with disabilities as consumers as well, including work experience opportunities while still in school, upon graduation and after college. Career development, with pathways to more responsible positions in CILs, can be a key to the retention of competent staff.

CILs exist in a framework of public agencies, nonprofit organizations, and the local business sectors. The ability to form effective partnerships and cooperative working relationships with appropriate entities is essential to successful CIL operation. Historically, relationships with State governments, including Vocational Rehabilitation agencies, Statewide Independent Living Councils, State Consumer Advocacy Organizations and County and City governments have been at the heart of CIL operations and responsibilities. Recent developments in the area of employment services and entitlement benefits for individuals with disabilities pose additional opportunities and challenges for CILs by introducing new actors, new clients, and new rules. Passage of the Workforce Investment Act of 1998 and the Work Incentives Improvement Act of 1999 might provide new opportunities for CILs to play a role in the process of vocational rehabilitation and employment.

A challenge to facilitating independent living and community integration is the changing universe of disability. Demographic, social and environmental trends affect the prevalence and distribution of various types of disability as well as the demands of those disabilities on social policy and service systems. Within the universe of disabilities are: (1) Changing etiologies for existing disabilities; (2) growth in segments of the population with higher prevalence rates for certain disabilities; (3) the consequences of changes in public policy and in health care services and technologies; and (4) the appearance of new disabilities. Some of the RRTCs sponsored by NIDRR that address these issues including the following: Aging with a Disability, Measuring Rehabilitative Outcomes, and Economic Research on Employment Policy for Persons with Disabilities.

The CILs and consumer organizations can prepare to address changing needs of diverse populations with attention to the infrastructure of resource availability and management strategy. At the same time, there is a need to frame the history and role of the independent living movement within the context of theories of society and social movements and organizational and group structure. Such a framework could identify ways to: (1) Reach out to underserved populations, (2) collaborate with key organizations that might not be perceived as traditional disability advocates, and (3) recognize the role of environmental factors on successfully independent living and achieving community integration. A sound theoretical base can be drawn upon to develop policy and service-delivery models that can help maximize social participation for individuals with disabilities.

Researchers have identified an association between disabilities and poverty, especially among youth (Fujiura G et al., “Disability Among Ethnic and Racial Minorities in the United States,” Journal of Disability Policy Studies, Vol. 9, No. 2, pgs. 112-130, 1998). The growing number of individuals aging with long-standing disabilities, as well as the increase in the population of older persons who acquire disabilities as they age, is another aspect of a changing disability population. Newer etiologies of disability, such as HIV/AIDS, multiple chemical sensitivity and environmental illness, challenge IL concepts, services, and research. CILs and other organizations can serve as a resource to teach youth, aging persons, and underserved populations, including those from cultural and linguistic diversity about independent living. There may be an opportunity for CILs to develop strong alliances with parent information training centers and schools (from pre-school through postsecondary programs) and with the aging and underserved populations through appropriate partnerships.

As an example of the role of demographic factors, disability has a disproportionate impact upon African Americans, Hispanic Americans, and American Indians. An array of culturally-sensitive service-delivery models, community organizations, and other resources is necessary to provide services to individuals from minority backgrounds. Organizations with grassroots orientations, including CILs, are in a unique position to help identify the specific needs of individuals from those affected populations. Model strategies in other countries might be adapted to reach unserved and underserved populations in the United States.

Physical environment, including the built environment, can pose numerous obstacles that confound living independently. Individuals with disabilities living in rural communities may be isolated from CILs and vocational rehabilitation services. Isolation resulting from distance, lack of available transportation, lack of monetary resources to support social services, limited job opportunities, lack of a health care delivery system, the digital divide due to a lack of technology, and unavailability of accessible and affordable housing can be problems for rural Americans. Similar problems may confront persons from minority backgrounds in inner cities and remote areas, persons who are homeless, and migrants. For all populations, and for all salient issues that affect independent living and community integration, the social and economic costs and benefits of various strategies must be evaluated.

The Plan discusses research on physical inclusion, including the identification and evaluation of models that facilitate housing that are consistent with consumer choice. In addition to physical and economic accessibility, model housing approaches must maximize community integration and ability to participate in a range of normative activities.

Priority 1: Improved Management of CIL Programs and Services

The Assistant Secretary will establish an RRTC on IL management, services and strategies that will conduct research and training activities and develop and evaluate model approaches to enhance the capacity of CILs to operate and manage effective advocacy, service programs and businesses, and develop and maintain effective external partnerships. In carrying out this purpose, the Center must:

(1) Develop a database of existing CIL funding and economic resources, and identify innovative and best practices in creating secure economic foundations for CILs;

(2) Working in collaboration with appropriate entities, design and test several options for generating funding from alternative sources, including business development strategies and analyze policy-related and programmatic consequences of various funding options, especially those independent of public financing;

(3) Identify best practices and develop and test programs for CILs in expanding services to youth with disabilities and their families, including those from diverse cultural backgrounds, and in interfacing with education and transition programs to prepare children and youth for independent living, including life long learning;

(4) Develop and test strategies to enable CILs to benefit from management models of other successful community-based organizations or business organizations. Develop and test innovative models of cost-effective training to improve core competency skills of CIL staff, including geographically dispersed and culturally and linguistically diverse CIL staff, including but not limited to those from Indian tribes and tribal organizations, and evaluate strategies for improved recruitment and retention of CIL staff, including those from diverse backgrounds;

(5) Review CIL and vocational rehabilitation agency policies related to collaborations, and design strategies for innovative partnerships to promote employment outcomes for individuals with disabilities;

(6) Coordinate activities with and provide instruments, curricula, methodologies, and resource guides, as well as research findings, including but not necessarily limited to distance learning and web-based technologies, to the RSA training and technical assistance provider under Part C of Title VII of the Rehabilitation Act; and

(7) Provide training and information for CILs, policy makers, including business leaders and educators, administrators, and advocates on research findings and identified strategies.

In carrying out these purposes, the Center must coordinate with other NIDRR, including Section 21 Leadership Training and the RRTCs on Disability Statistics and Persons with Disabilities from Minority Backgrounds, and OSERS grantees and community-based organizations that focus upon independent living and with the National Center for the Dissemination of Disability Research. The RRTC on improved management of CIL programs and services will be funded jointly by NIDRR and RSA and will be required to work closely with the RSA grantee providing training, technical assistance, and transition assistance to CILs and Statewide Independent Living Councils under Part C of Title VII of the Rehabilitation Act.

Priority 2: IL and the New Paradigm of Disability

The Assistant Secretary will establish an RRTC on IL and the New Paradigm of Disability that will facilitate the development of innovative independent living strategies to meet the challenges of the 21st century. This Center will promote an understanding of independent living concepts and practices in the context of the physical and social environments noted in the new paradigm of disability, including assessment of the application of independent living to the changing universe of disability. In carrying out these purposes, the Center must:

(1) Develop an analytical framework for research on living independently that incorporates the definition of IL, the contextual framework of disability and an accessible community, and the changing universe of disability as articulated in the Plan, and is grounded in social science theory and methods;

(2) Identify and evaluate strategies to promote accessible cost-effective advocacy and generic community services for individuals with significant disabilities, and address specifically at least one changing universe population;

(3) Evaluate the use of peer networks and communication channels to assist individuals with disabilities to maintain wellness, access community services, and participate in community life, including education and employment;

(4) Assess the concept and application of independent living for diverse populations of cultural and linguistic minorities, including but not limited to those from Indian tribes and tribal organizations, Latinos and Asians and identify and evaluate culturally appropriate independent living approaches and strategies to assist individuals within these groups to attain self-determined independent living goals; and

(5) Provide training and information for CILs, policy makers, including business leaders and educators, administrators, and advocates on research findings and identified strategies.

In carrying out these purposes, the project must coordinate with other NIDRR, including Section 21 Leadership Training and the RRTCs on Disability Statistics and Persons with Disabilities from Minority Backgrounds, and OSERS grantees and community-based organizations that focus on independent living, the Center on Emergent Disability, the National Center for the Dissemination of Disability Research, and the RSA training and technical assistance provider under Part C of Title VII of the Rehabilitation Act.

Electronic Access to This Document

You may view this document, as well as all other Department of Education documents published in the Federal Register, in text or Adobe Portable Document Format (PDF) on the Internet at either of the following sites:

http://ocfo.ed.gov/fedreg.htm

http://www.ed.gov/news.html

To use the PDF you must have the Adobe Acrobat Reader, which is available free at either of the preceding sites. If you have questions about using the PDF, call the U.S. Government Printing Office (GPO), toll free, at 1-888-293-6498; or in the Washington, D.C. area at (202) 512-1530.

Note: The official version of this document is the document published in the Federal Register. Free Internet access to the official edition of the Federal Register and the Code of Federal Regulations is available on GPO Access at: http://www.access.gpo.gov/nara/index.html.

Applicable Program Regulations: 34 CFR Part 350

Program Authority: 29 U.S.C. 760-762.

(Catalog of Federal Domestic Assistance Number: 84.133B, Rehabilitation Research and Training Centers)

Dated: May 11, 2000.
Judith E. Heumann,
Assistant Secretary for Special Education and Rehabilitative Services.

[FR Doc. 00-12502 Filed 5-17-00; 8:45 am]

BILLING CODE 4000-01-U